DEPARTMENT OF ENERGY

[FE Docket No. 12-32-LNG]

Jordan Cove Energy Project, L.P.; Amendment of Application for Long-Term, Authorization To Export Liquefied Natural Gas to Non-Free Trade Agreement Nations

AGENCY: Office of Fossil Energy, DOE.

ACTION: Notice of amendment.

SUMMARY: The Office of Fossil Energy (FE) of the Department of Energy (DOE) gives notice of receipt of an amendment (Amendment), filed on October 5, 2015, by Jordan Cove Energy Project, L.P. (Jordan Cove) of its pending Application in this proceeding. The Application, filed on March 23, 2012, seeks authority to export domestically produced liquefied natural gas (LNG) in a volume equivalent to 292 Bcf/yr (0.8 Bcf/day) from a proposed terminal to be located on Coos Bay in the State of Oregon to nations with which the United States does not have a Free Trade Agreement (FTA) requiring national treatment for trade in natural gas (non-FTA nations). DOE published a “Notice of Application” in the Federal Register on June 6, 2012. 77 Fed.Reg. 33446. DOE/FE received five motions to intervene in the proceeding and numerous comments for and against the proposed export authorization.

The Amendment seeks to increase the volume of LNG for which Jordan Cove requests export authorization from the equivalent of 292 Bcf/yr to the equivalent of 350 Bcf/yr of natural gas (0.96 Bcf/day). On March 24, 2014, the Department of Energy issued DOE/FE Order No. 3413, conditionally granting Jordan Cove's Application.¹ DOE/FE has not yet issued a final order on the pending Application.

¹ Jordan Cove Energy Project, L.P., DOE/FE Order No. 3413, FE Docket No. 12-32-LNG, Order Conditionally Granting Long-Term Multi-Contract Authorization To Export Liquefied Natural Gas By Vessel From the Jordan Cove LNG Terminal in Coos Bay, Oregon to Non-Free Trade Agreement Nations (Mar. 24, 2014).

In its Amendment, Jordan Cove states that it is increasing its requested volume by 58 Bcf/yr in order to reflect the maximum production capacity of the Facility of 6.8 million metric tons per annum (mtpa) of LNG.² According to Jordan Cove, the 6.8 million mtpa of LNG equates to 350 Bcf/yr of natural gas, which may be available for export.³ Jordan Cove asserts that the Amendment to increase the volume of its requested authorization does not alter the findings in the conditional export authorization in DOE/FE Order No. 3413 that the proposed exports have not been shown to be inconsistent with the public interest. Nor, Jordan Cove submits, will the increase in authorized export volumes entail environmental consequences.⁴

² Amendment at 3.

³ Amendment at 5.

⁴ Amendment at 8.

Additional details can be found in Jordan Cove's Amendment, posted on the DOE/FE Web site at: http://www.fossil.energy.gov/programs/gasregulation/authorizations/2012_applications/2015-10-05_JCEP_Amendment_of_NFTA__Appli.pdf.

Because the Amendment represents a substantive and material change in the Application, DOE has determined to publish this notice in the Federal Register, thereby providing the pubic with an opportunity to intervene, comment, and/or protest the Amendment. The Applicant separately has served the Amendment on each of the parties that have previously intervened in this proceeding.

Protests, motions to intervene, notices of intervention, and written comments addressing the Amendment are invited.

DATES: Protests, motions to intervene or notices of intervention, as applicable, requests for additional procedures, and written comments are to be filed using procedures detailed in the Public Comment Procedures section no later than 4:30 p.m., Eastern time, March 23, 2016.

ADDRESSES:

Electronic Filing by email: fergas@hq.doe.gov.

Regular Mail: U.S. Department of Energy (FE-34), Office of Regulation and International Engagement, Office of Fossil Energy, P.O. Box 44375, Washington, DC 20026-4375.

Hand Delivery or Private Delivery Services (e.g., FedEx, UPS, etc.): U.S. Department of Energy (FE-34), Office of Regulation and International Engagement, Office of Fossil Energy, Forrestal Building, Room 3E-042, 1000 Independence Avenue SW., Washington, DC 20585.

FOR FURTHER INFORMATION CONTACT:

Larine Moore or Benjamin Nussdorf, U.S. Department of Energy (FE-34), Office of Regulation and International Engagement, Office of Fossil Energy, Forrestal Building, Room 3E-042, 1000 Independence Avenue SW., Washington, DC 20585, (202) 586-9478; (202) 586-7991.

Cassandra Bernstein, U.S. Department of Energy (GC-76), Office of the Assistant General Counsel for Electricity and Fossil Energy, Forrestal Building, 1000 Independence Avenue SW., Washington, DC 20585, (202) 586-9793.

SUPPLEMENTARY INFORMATION:

DOE/FE Evaluation

The Amendment will be reviewed in conjunction with our review of the underlying Application pursuant to section 3(a) of the NGA, 15 U.S.C. 717b(a), and DOE will consider any issues required by law or policy. To the extent determined to be relevant, these issues will include the domestic need for the natural gas proposed to be exported, the adequacy of domestic natural gas supply, U.S. energy security, and the cumulative impact of the requested authorization and any other LNG export application(s) previously approved on domestic natural gas supply and demand fundamentals. DOE may also consider other factors bearing on the public interest, including the impact of the proposed exports on the U.S. economy (including GDP, consumers, and industry), job creation, the U.S. balance of trade, and international considerations; and whether the Amendment is consistent with DOE's policy of promoting competition in the marketplace by allowing commercial parties to freely negotiate their own trade arrangements. As part of this analysis, DOE will consider the following two studies examining the cumulative impacts of LNG:

• Effect of Increased Levels of Liquefied Natural Gas on U.S. Energy Markets, conducted by the U.S. Energy Information Administration upon DOE's request (2014 EIA LNG Export Study); ⁵ and

⁵ The 2014 EIA LNG Export Study, published on Oct. 29, 2014, is available at: https://www.eia.gov/analysis/requests/fe/.

• The Macroeconomic Impact of Increasing U.S. LNG Exports, conducted jointly by the Center for Energy Studies at Rice University's Baker Institute for Public Policy and Oxford Economics, on behalf of DOE (2015 LNG Export Study).⁶

⁶ The 2015 LNG Export Study, dated Oct. 29, 2015, is available at: http://energy.gov/sites/prod/files/2015/12/f27/20151113_macro_impact_of_lng_exports_0.pdf.

Additionally, DOE will consider the following environmental documents:

• Addendum to Environmental Review Documents Concerning Exports of Natural Gas From the United States, 79 FR 48132 (Aug. 15, 2014); ⁷ and

⁷ The Addendum and related documents are available at: http://energy.gov/fe/draft-addendum-environmental-review-documents-concerning-exports-natural-gas-united-states.

• Life Cycle Greenhouse Gas Perspective on Exporting Liquefied Natural Gas From the United States, 79 FR 32260 (June 4, 2014).⁸

⁸ The Life Cycle Greenhouse Gas Report is available at: http://energy.gov/fe/life-cycle-greenhouse-gas-perspective-exporting-liquefied-natural-gas-united-states.

Parties that may oppose the Amendment to the Application should address the basis for their opposition to the Amendment, as well as other issues deemed relevant to the Amendment, in their comments and/or protests.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable. Interested persons will be provided 20 days from the date of publication of this Notice in which to submit comments, protests, motions to intervene, or notices of intervention. Comments and protests should address the implications of the Amendment. Because the public previously was given an opportunity to intervene in, protest, and comment on the Application, DOE/FE may disregard comments or protests on the Application that do not bear directly on the Amendment.

Any person wishing to become a party to the proceeding must file a motion to intervene or notice of intervention. The filing of comments or a protest with respect to the Application will not serve to make the commenter or protestant a party to the proceeding, although protests and comments received from persons who are not parties will be considered in determining the appropriate action to be taken on the Application. All protests, comments, motions to intervene, or notices of intervention must meet the requirements specified by the regulations in 10 CFR part 590.

Filings may be submitted using one of the following methods: (1) Emailing the filing to fergas@hq.doe.gov, with FE Docket No. 12-32-LNG in the title line; (2) mailing an original and three paper copies of the filing to the Office of Regulation and International Engagement at the address listed in ADDRESSES; or (3) hand delivering an original and three paper copies of the filing to the Office of Regulation and International Engagement at the address listed in ADDRESSES. All filings must include a reference to FE Docket No. 12-32-LNG. PLEASE NOTE: If submitting a filing via email, please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

A decisional record on the Amendment will be developed through responses to this notice by parties, including the parties' written comments and replies thereto. Additional procedures will be used as necessary to achieve a complete understanding of the facts and issues. If an additional procedure is scheduled, notice will be provided to all parties. If no party requests additional procedures, a final Opinion and Order may be issued based on the official record, including the Amendment and responses filed by parties pursuant to this notice, in accordance with 10 CFR 590.316.

The Amendment is available for inspection and copying in the Division of Natural Gas Regulation docket room, Room 3E-042, 1000 Independence Avenue SW., Washington, DC 20585. The docket room is open between the hours of 8:00 a.m. and 4:30 p.m., Monday through Friday, except Federal holidays. The Amendment and any filed protests, motions to intervene or notice of interventions, and comments will also be available electronically by going to the following DOE/FE Web address: http://www.fe.doe.gov/programs/gasregulation/index.html.

Issued in Washington, DC, on February 26, 2016.
Amy R. Sweeney,
Director, Division of Natural Gas Regulation, Office of Oil and Natural Gas.

[FR Doc. 2016-04733 Filed 3-2-16; 8:45 am]

BILLING CODE 6450-01-P